FEDERAL COMMUNICATIONS COMMISSION

Notice of Public Information Collection(s) Being Submitted for Review to the Office of Management and Budget

February 17, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 27, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov.

FOR FURTHER INFORMATION CONTACT: For additional information, contact Judith B. Herman at 202-418-0214 or via the Internet at Judith-B.Herman@fcc.gov.

SUPPLEMENTARY INFORMATION: OMB Control Number: 3060-0999.

Title: Section 20.19, Hearing Aid-Compatible Mobile Handsets Annual Reporting (Hearing Aid Compatibility Act).

Form No.: FCC Form 655—electronic only.

Type of Review: Revision of a currently approved collection.

Respondents: Business or other for-profit.

Number of Respondents: 925 respondents; 925 responses.

Estimated Time per Response: 1-3 hours.

Frequency of Response: Annual reporting requirement and third party disclosure requirement.

Obligation to Respond: Required to obtain or retain benefits. Statutory authority for these information collections is contained in 47 U.S.C. Sections 154(i), 303(r), and 610.

Total Annual Burden: 12,525 hours.

Total Annual Cost: N/A.

Privacy Act Impact Assessment: N/A.

Nature and Extent of Confidentiality: In submitting the information requested in the annual reports, respondents may need to disclose confidential information to satisfy the requirements. However, covered entities would be free to request that such materials submitted to the Commission be withheld from public inspection under 47 CFR 0.459 of the Commission's rules. The Commission's rules provide for requesting that confidential treatment be afforded particular materials that the requesting party identifies and submission of those materials (for review by the Commission) for which a party seeks confidential treatment. This same treatment is available for licensing applications filed in ULS and other reports that are filed electronically.

Needs and Uses: The Commission will submit this information collection to the Office of Management and Budget (OMB) after this 60-day comment period in order to obtain its full three year clearance. The Commission is requesting a revision of this information collection. The Commission is reporting a decrease in respondents since the last submission to OMB because manufacturers have already filed their January 15, 2009 reports. Therefore, each respondent now needs to file only one report per year. Starting July 15, 2009, all annual reports filed by service providers and manufacturers will be submitted using electronic FCC Form 655.

The Commission is implementing a mandatory electronic filing requirement for all manufacturers and service providers. The Commission is eliminating the use of paper-based annual reports and will require annual reports filed by manufacturers and service providers to be submitted using electronic FCC Form 655 beginning July 15, 2009. Use of the electronic FCC Form 655 will help filers ensure that their reports include all of the required information; will facilitate the Commission's compilation of data from the reports; and will decrease the paperwork burden on all respondents (service providers and manufacturers). The reporting criteria will assist the Commission staff in monitoring the progress of implementation by phone manufacturers and wireless service providers, and it will provide valuable information to the public concerning hearing aid-compatible handsets. The annual reports will permit the Commission to continue to stay abreast of ongoing standards work and other pertinent information associated with achieving digital wireless compatibility with hearing aids and cochlear implants. This information will help to ensure that the Commission's decisions relating to hearing aid compatibility with wireless phones are fair to all involved and reflect the actual status of technology. The technical standard for hearing aid compatibility is required by the Hearing Aid Compatibility (HAC) Act of 1988, and will be used by covered entities and the Commission as a compliance guide.

The Commission adopted and released a First Report and Order on February 28, 2008 (73 FR 25566) in which the Commission modified the deployment benchmarks for hearing aid-compatible phones, and imposed new requirements on manufacturers and service providers to ensure their product lines are current and include handset models with varying levels of functionality and are periodically refreshed. The Commission also required manufacturers and service providers to continue to file reports on the status of their compliance with these requirements, and it modified the content and timing of these reports (service providers were required to file the new reports annually beginning on January 15, 2009 and subsequently thereafter, and manufacturers also filed their reports on January 15, 2009 and then are required to file annually thereafter beginning on July 15, 2009). The requirement to provide certain information in conjunction with product labeling remains, although the details of the information required have changed slightly, especially with regard to phones that have Wi-Fi air interface capability. Finally, the Commission required manufacturers and service providers which already have public Web sites to publish up-to-date information on their Web sites regarding their hearing aid-compatible models and to keep that information current.

Federal Communications Commission.
Marlene H. Dortch,
Secretary.

[FR Doc. E9-3929 Filed 2-23-09; 8:45 am]

BILLING CODE 6712-01-P